DEPARTMENT OF ENERGY

[Docket No. EC03-89-000, et al.]

Federal Energy Regulatory Commission FPL Energy New York, LLC, et al.; Electric Rate and Corporate Filings

May 19, 2003.

The following filings have been made with the Commission. The filings are listed in ascending order within each docket classification.

1. FPL Energy New York, LLC, Energy Rockaway Peaking Facilities, LLC

[Docket No. EC03-89-000FPL]

Take notice that on May 13, 2003, pursuant to Section 203 of the Federal Power Act, FPL Energy New York, LLC (FPLE New York) and FPL Energy Rockaway Peaking Facilities, LLC (FPLE Rockaway) (Jointly, the Applicants) filed a joint application for approval of a corporate reorganization. Applicants state that the proposed reorganization will not change the ultimate ownership of the facilities.

The Applicants state that a copy of the application has been served on the New York Public Service Commission, 3 Empire State Plaza, Albany, NY 12223-1350. The Applicants have requested that the filing become effective at the earliest possible date, but no later than June 18, 2003. Comment Date: June 3, 2003.

2. TPS GP, Inc., TPS LP, Inc., Panda GS V, LLC, and Panda GS VI, LLC

[Docket No. EC03-90-000]

Take notice that on May 13, 2003, TPS GP, Inc., TPS LP, Inc., Panda GS V, LLC and Panda GS VI, LLC (collectively, Applicants) filed with the Federal Energy Regulatory Commission (Commission) an application pursuant to section 203 of the Federal Power Act for authorization of a disposition of jurisdictional facilities for Panda GS V, LLC to divest, and for TPS GP, Inc. to acquire, all of Panda GS V, LLC's interest in TECO-PANDA Generating Company, LP (TPGC) and for Panda GS VI, LLC to divest, and for TPS LP, Inc. to acquire, all of Panda GS VI, LLC's interest in TPGC. Applicants state that TPGC, through its wholly-owned subsidiaries, owns Panda Gila River, L.P., owner and operator of a 2,350 MW natural gas-fired, combined-cycle merchant power plant located in Maricopa County, Arizona; Union Power Partners, L.P., owner and operator of a 2,220 MW natural gas-fired, combined-cycle merchant power plant located in Union County, Arkansas; and Trans-Union Interstate Pipeline, L.P., owner and operator of a 42-mile open access natural gas pipeline extending from Louisiana to Arkansas. Comment Date: June 3, 2003.

3. New England Power Pool

[Docket No. ER03-563-005]

Take notice that on May 14, 2003, the New England Power Pool (NEPOOL) Participants Committee submitted a filing with the Federal Energy Regulatory Commission (Commission) that reflects the escrow arrangements entered into between NEPOOL, ISO New England Inc. and each of Devon Power LLC, Middletown Power LLC, Montville Power LLC, and Norwalk Power LLC (collectively, NRG) to assure that the funds collected from NEPOOL Participants for the maintenance of NRG's generating facilities by ISO New England Inc. as NEPOOL's billing agent on and after April 21, 2003, are used solely for that purpose, in accordance with the Commission's order in Devon Power LLC et. al., 102 FERC ] 61,314 (2003).

The Participants Committee states that copies of this filing were sent to the NEPOOL Participants and the New England state governors and regulatory commissions. Comment Date: June 4, 2003.

4. Empire District Electric Company

[Docket No. ER03-626-001]

Take notice that on May 14, 2003, the Empire District Electric Company (Empire) submitted a revised version of its Empire Wholesale Electric Service Schedule W-1 (Schedule W-1) in compliance with the Federal Energy Regulatory Commission's April 25, 2003 Order in the proceeding.

Empire states that copies of this filing were served on all customers under Schedule W-1 and on all affected state commissions. Comment Date: June 4, 2003

5. Michigan Electric Transmission Company, LLC

[Docket No. ER03-692-001]

Take notice that on May 13, 2003, Michigan Electric Transmission Company, LLC (METC) tendered for filing with the Federal Energy Regulatory Commission (Commission) a revised version of the Interconnection Facilities Agreement between METC and the City of Hart (Interconnection Agreement and Hart, respectively). METC states that a previous version of this agreement was filed with the Commission on April 1, 2003. METC requests an effective date of March 13, 2003 for the Interconnection Agreement.

METC states that copies of this filing were served on Hart and all parties included on the Commission's official service list established in this proceeding. Comment Date: June 3, 2003.

6. American Transmission Company LLC

[Docket No. ER03-847-000]

Take notice that on May 14, 2003, American Transmission Company LLC (ATCLLC) tendered for filing a Distribution-Transmission Interconnection Agreement between ATCLLC and The City of Elkhorn. ATCLLC requests an effective date of April 14, 2003. Comment Date: June 4, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R.Salas,
Secretary.

[FR Doc. 03-13079 Filed 5-23-03; 8:45 am]

BILLING CODE 6717-01-P